DEPARTMENT OF HEALTH AND HUMAN SERVICES

National Institutes of Health

Submission for OMB Review; Comment Request; Process Evaluation of the NIH's Roadmap Interdisciplinary Research Work Group Initiatives

SUMMARY: Under the provisions of Section 3507(a)(1)(D) of the Paperwork Reduction Act of 1995, the (insert name of NIH Institute or IC), the National Institutes of Health has submitted to the Office of Management and Budget (OMB) a request to review and approve the information collection listed below. This proposed information collection was previously published in the Federal Register on January 5, 2010 (p. 382) and allowed 60 days for public comment. One comment was received, which included a request for additional information, and additional information was provided. No additional questions were received. The purpose of this notice is to allow an additional 30 days for public comment. The National Institutes of Health may not conduct or sponsor, and the respondent is not required to respond to, an information collection that has been extended, revised, or implemented on or after October 1, 1995, unless it displays a currently valid OMB control number.

Proposed Collection: The National Institute of Dental and Craniofacial Research of the National Institutes of Heath requests a two-year clearance for Title: “Process Evaluation of the NIH Roadmap Interdisciplinary Research Work Group Initiatives,” Type of information collection: New. Need and use of information collection: This study will be used to determine whether the NIH's Interdisciplinary Research Work Group initiatives have been, and are being, conducted as planned, whether the expected outputs are being produced, and how the activities and processes associated with the initiatives can be improved. Information collected during the evaluation will be used to assess whether and how these initiatives differed from existing initiatives to determine whether these unique initiatives or mechanisms are necessary, to make decisions about whether to continue and/or to modify the programs, and to make decisions about structural or procedural changes within NIH that may be necessary to support cross-cutting interdisciplinary programs. Frequency of response: The frequency of response is once for most respondents, and twice for a limited group. Affected public: The affected public includes a limited number of individuals; Type of respondents: principal investigators, other grant investigators, and Initiative trainees. The annual reporting burden is as follows: Estimated number of respondents: 450; Estimated number of responses per respondent: PIs, 2; Other Investigators, 1; Trainees, 1; Average burden hours per response: 30 minutes; and Estimated total annual burden hours requested: 250 hours. The total annualized cost to respondents (calculated as the number of respondents * frequency of response * average time per response * approximate hourly wage rate) is estimated to be $7,450. There are no Capital Costs, Operating Costs, and/or Maintenance Costs to report.

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Sue Hamann, PhD, Science Evaluation Officer, Office of Science Policy Officer and Analysis, National Institute of Dental and Craniofacial Research (NIDCR), NIH. You may reach Dr. Hamann by telephone on 301-594-4849 (this is not a toll-free number), or you may e-mail your request to Dr. Hamann at Sue.Hamann@nih.hhs.gov.

Comments Due Date: Comments regarding this information collection are best assured of having their full effect if received within 30 days of the date of this publication.

Dated: March 24, 2010.
Sue Hamann,
Science Evaluation Officer, OSPA, NIDCR, National Institutes of Health.

[FR Doc. 2010-7086 Filed 3-29-10; 8:45 am]

BILLING CODE 4140-01-P